DEPARTMENT OF HEALTH AND HUMAN SERVICES

Centers for Disease Control and Prevention

[60Day-14-0260]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Hazard Evaluation and Technical Assistance—Requests and Emerging Problems (0920-0260, Expiration 11/30/2014)—Revision—National Institute for Occupational Safety and Health (NIOSH), Centers for Disease Control and Prevention (CDC).

Background and Brief Description

In accordance with its mandates under the Occupational Safety and Health Act of 1970 and the Federal Mine Safety and Health Act of 1977, the National Institute for Occupational Safety and Health (NIOSH) responds to requests for health hazard evaluations (HHE) to identify chemical, biological or physical hazards in workplaces throughout the United States. Each year, NIOSH receives approximately 300 such requests. Most HHE requests come from the following types of companies: Service, manufacturing, health and social services, transportation, construction, agriculture, mining, skilled trade and construction.

A printed HHE request form is available in English and in Spanish. The form is also available on the Internet and differs from the printed version only in format and in the fact that it can be submitted directly from the Web site. The request form takes an estimated 12 minutes to complete. The form provides the mechanism for employees, employers, and other authorized representatives to supply the information required by the regulations governing the NIOSH HHE program (42 CFR 85.3-1). If employees are submitting the form, it must contain the signatures of three or more current employees. However, regulations allow a single signature if the requestor: Is one of three (3) or fewer employees in the process, operation, or job of concern; or is any officer of a labor union representing the employees for collective bargaining purposes. An individual management official may request an evaluation on behalf of the employer. The information provided is used by NIOSH to determine whether there is reasonable cause to justify conducting an investigation and provides a mechanism to respond to the requestor.

NIOSH reviews the HHE request to determine if an on-site evaluation is needed. The primary purpose of an on-site evaluation is to help employers and employees identify and eliminate occupational health hazards. For 40% of the requests received NIOSH determines an on-site evaluation is needed.

In about 70% of on-site evaluations, employees are interviewed to help further define concerns. Interviews may take approximately 15 minutes per respondent. The interview questions are specific to each workplace and its suspected diseases and hazards. However, interviews are based on standard medical practices.

In approximately 30% of on-site evaluations (presently estimated to be 38 facilities), questionnaires are distributed to the employees (averaging about 100 employees per site). Questionnaires may require approximately 30 minutes to complete. The survey questions are specific to each workplace and its suspected diseases and hazards, however, items in the questionnaires are derived from standardized or widely used medical and epidemiologic data collection instruments.

About 70% of the on-site evaluations involve employee exposure monitoring in the workplace. Employees participating in on-site evaluations by wearing a sampler or monitoring device to measure personal workplace exposures are offered the opportunity to get a written notice of their exposure results. To indicate their preference and, if interested, provide mailing information, employees complete a contact information post card. The previous approved information collection request has been revised to include the post card, which may take 5 minutes or less to complete. The number of employees monitored for workplace exposures per on-site evaluation is estimated to be 25 per site.

NIOSH distributes interim and final reports of health hazard evaluations, excluding personal identifiers, to: requesters, employers, employee representatives; the Department of Labor (Occupational Safety and Health Administration or Mine Safety and Health Administration, as appropriate); state health departments; and, as needed, other state and federal agencies.

NIOSH administers a follow-back program to assess the effectiveness of its HHE program in reducing workplace hazards. This program entails the mailing of follow-back questionnaires to employer and employee representatives at all the workplaces where NIOSH conducted an on-site evaluation. In a small number of instances, a follow-back on-site evaluation may be completed. The first follow-back questionnaire is sent shortly after the first visit for an on-site evaluation and takes about 15 minutes to complete. A second follow-back questionnaire is sent a year later and requires about 15 minutes to complete. At 24 months, a third follow-back questionnaire is sent which takes about 15 minutes to complete.

For requests where NIOSH does not conduct an on-site evaluation, the requestor receives the first follow-back questionnaire 12 months after our response and a second one 24 months after our response. The first questionnaire takes about 10 minutes to complete and the second questionnaire takes about 15 minutes to complete.

Because of the number of investigations conducted each year, the need to respond quickly to requests for assistance, the diverse and unpredictable nature of these investigations, and its follow-back program to assess evaluation effectiveness; NIOSH requests clearance for data collections performed within the domain of its HHE program. There is no cost to respondents other than their time.

Estimate of Annualized Burden Hours
Type of respondent | Form | Number of respondents | Number of responses per respondent | Average burden per response in hours | Total burden hours
Employees and Representatives | Health Hazard Evaluation Request Form | 225 | 1 | 12/60 | 45
Employers* | Health Hazard Evaluation Request Form | 75 | 1 | 12/60 | 15
Employees | Health Hazard Evaluation specific interview example | 2,670 | 1 | 15/60 | 668
Employees | Health Hazard Evaluation specific questionnaire example | 3,800 | 1 | 30/60 | 1,900
Employees | Contact information post card | 2,225 | 1 | 5/60 | 186
Employees and Representatives; Employers—Year 1 (on-site evaluation) | First follow-back questionnaire | 252 | 1 | 15/60 | 63
| Second follow-back questionnaire | 252 | 1 | 15/60 | 63
Employees and Representatives; Employers—Year 2 (on-site evaluation) | Third follow-back questionnaire | 252 | 1 | 15/60 | 63
Employees and Representatives; Employers—Year 1 (without on-site evaluation) | First follow-back questionnaire | 90 | 1 | 10/60 | 15
Employees and Representatives; Employers—Year 2 (without on-site evaluation) | Second follow-back questionnaire | 90 | 1 | 15/60 | 23
Total |  |  |  |  | 3,041

LeRoy Richardson,
Chief, Information Collection Review Office, Office of Scientific Integrity, Office of the Associate Director for Science, Office of the Director, Centers for Disease Control and Prevention.

[FR Doc. 2014-07738 Filed 4-7-14; 8:45 am]

BILLING CODE 4163-18-P